DEPARTMENT OF THE INTERIOR

Bureau of Land Management

[WO-310-1310-PB-24 1A; OMB Control Number 1004-0074]

Information Collection Submitted to the Office of Management and Budget Under the Paperwork Reduction Act

The Bureau of Land Management (BLM) has sent a request to extend the current approved information collection to the Office of Management and Budget (OMB) under the provisions of the Paperwork Reduction Act of 1995 (44 U.S.C. 3501 et seq.). On August 5, 2002, the BLM published a notice in the Federal Register (67 FR 50690) requesting comment on this information collection. The comment period ended on October 4, 2002. BLM received no comments. You may obtain copies of the collection of information and related forms and explanatory material by contacting the BLM Information Collection Clearance Officer at the telephone number listed below.

The OMB must respond to this request within 60 days but may respond after 30 days. For maximum consideration your comments and suggestions on the requirement should be directed within 30 days to the Office of Management and Budget, Interior Department Desk Officer (1004-0074), at OMB-OIRA via facsimile to (202) 395-5806 or e-mail to Ruth Solomon@omb.eop.gov.

Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the agency, including whether the information will have practical utility;

2. The accuracy of our estimates of the information collection burden, including the validity of the methodology and assumptions we use;

3. Ways to enhance the quality, utility and clarity of the information collection; and

4. Ways to minimize the information collection burden on those who are to respond, including the use of appropriate automated, electronic, mechanical, or other forms of information technology.

Title: Oil and Gas and Geothermal Resources Leasing (43 CFR 3120, 3209, and 3220).

OMB Control Number: 1004-0074.

Bureau Form Numbers: 3000-2 and 3200-9.

Abstract: We use the information from Form 3000-2 to determine whether a bidder is qualified to hold a lease under the Mineral Leasing Act of 1920. Also, we use the information from Form 3200-9 to conduct geothermal resource operations under the Geothermal Steam Act of 1969.

Frequency: Occasionally.

Description of Respondents: Individuals, small businesses, and large corporations.

Estimated Completion Time: 2 hours for Form 3200-9 and 10 minutes for Form 3000-2.

Annual Responses: 1,030.

Application Fee Per Response: $0.

Annual Burden Hours: 227.

Bureau Clearance Officer: Michael Schwartz, (202) 452-5033.

Dated: July 11, 2003.
Michael H. Schwartz,
Bureau of Land Management, Information Collection Clearance Officer.

[FR Doc. 03-18847 Filed 7-23-03; 8:45 am]

BILLING CODE 4310-84-M